DEPARTMENT OF COMMERCE

International Trade Administration

[A-570-073]

Common Alloy Aluminum Sheet From the People's Republic of China: Final Results of Antidumping Duty Administrative Review; 2021-2022

AGENCY: Enforcement and Compliance, International Trade Administration, Department of Commerce.

SUMMARY: The U.S. Department of Commerce (Commerce) continues to determine that Alcha International Holdings Limited (Alcha International), Jiangsu Alcha Aluminum Group Co., Ltd (Jiangsu Alcha), and Baotou Alcha Aluminum Co., Ltd. (Batou Alcha) (collectively, Alcha), the only entity subject to this administrative review of the antidumping duty (AD) order on common alloy aluminum sheet (aluminum sheet) from the People's Republic of China (China), is part of the China-wide entity. The period of review (POR) is February 1, 2021, through January 31, 2022.

DATES: Applicable March 20, 2023.

FOR FURTHER INFORMATION CONTACT: Frank Schmitt, AD/CVD Operations, Office VI, Enforcement and Compliance, International Trade Administration, U.S. Department of Commerce, 1401 Constitution Avenue NW, Washington, DC 20230; telephone: (202) 482-4880.

SUPPLEMENTARY INFORMATION:

Background

Commerce published the preliminary results of this administrative review on November 16, 2022.¹ We invited interested parties to comment on the Preliminary Results.² No party submitted comments. Accordingly, the final results are unchanged from the Preliminary Results. Commerce conducted this administrative review in accordance with section 751 of the Tariff Act of 1930, as amended (the Act).

¹ See Common Alloy Aluminum Sheet from the People's Republic of China: Preliminary Results of Antidumping Duty Administrative Review and Partial Recission of Antidumping Administrative Review; 2021-2022, 87 FR 68677 (November 16, 2022) (Preliminary Results), and accompanying Preliminary Decision Memorandum (PDM).

² Id., 87 FR at 68678-79.

Scope of the Order ³

³ See Common Alloy Aluminum Sheet from the People's Republic of China: Antidumping Duty Order, 84 FR 2813 (February 8, 2019) (Order).

The merchandise covered by the Order is common alloy aluminum sheet from China. For a full description of the scope of the Order, see the Preliminary Results.⁴

⁴ See Preliminary Results PDM at 3.

Final Results of Administrative Review

We received no comments concerning, and we have made no changes to, the Preliminary Results. We continue to find that Alcha,⁵ the only entity subject to this review, did not demonstrate its eligibility for a separate rate. Therefore, for these final results, we determine that Alcha is part of the China-wide entity.

⁵ Commerce previously determined that the following companies should be treated as a single entity: Alcha International); Jiangsu Alcha; and Baotou Alcha. Additionally, Commerce previously determined that Jiangsu Alcha Aluminum Group Co., Ltd is the successor-in-interest to Jiangsu Alcha. See Common Alloy Aluminum Sheet from the People's Republic of China: Final Results of Antidumping Duty Administrative Review, Final Successor-In-Interest Determination, and Final Determination of No Shipments; 2018-2020, 86 FR 74066, 74067 (December 29, 2021), unchanged in Common Alloy Aluminum Sheet from the People's Republic of China: Amended Final Results of Antidumping Duty Administrative Review, 2018-2020, 87 FR 6504 (February 4, 2022); see also Common Alloy Aluminum Sheet from the People's Republic of China: Final Results of Antidumping Duty Administrative Review; 2020-2021, 87 FR 54975 (September 8, 2022), as corrected by Common Alloy Aluminum Sheet from the People's Republic of China: Final Results of Antidumping Duty Administrative Review; 2020-2021; Correction, 87 FR 59059 (September 29, 2022). Accordingly, we are treating the single entity of Alcha International, Jiangsu Alcha, and Baotou Alcha (collectively, Alcha) as the companies under review in this proceeding.

Because no party requested a review of the China-wide entity, and we did not self-initiate a review, the China-wide entity rate (i.e., 59.72 percent) ⁶ is not subject to change as a result of this review.

⁶ See Order.

Assessment Rates

Commerce will determine, and U.S. Customs and Border Protection (CBP) shall assess, antidumping duties on all appropriate entries covered by this review in accordance with section 751(a)(2)(C) of the Act. For Alcha, we will instruct CBP to apply the China-wide rate of 59.72 percent to all entries of subject merchandise during the POR. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of subject merchandise from China entered, or withdrawn from warehouse, for consumption on or after the publication date of this notice, as provided by section 751(a)(2)(C) of the Act: (1) for previously investigated or reviewed Chinese and non-Chinese exporters that are not under review in this segment of the proceeding but have separate rates, the cash deposit rate will continue to be the exporter's existing cash deposit rate; (2) for all Chinese exporters of subject merchandise that do not have a separate rate, including Alcha, the cash deposit rate will be the China-wide rate of 59.72 percent; and (3) for all non-Chinese exporters of subject merchandise that do not have a separate rate, the cash deposit rate will be the rate applicable to the Chinese exporter(s) that supplied the non-Chinese exporter. These cash deposit requirements, when imposed, shall remain in effect until further notice.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Administrative Protective Order

This notice also serves as the only reminder to parties subject to an administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review in accordance with sections 751(a)(1) and 777(i)(1) of the Act, and 19 CFR 351.213(h) and 351.221(b)(5).

Dated: March 10, 2023.
Lisa W. Wang,
Assistant Secretary for Enforcement and Compliance.

[FR Doc. 2023-05552 Filed 3-17-23; 8:45 am]

BILLING CODE 3510-DS-P